DEPARTMENT OF HEALTH AND HUMAN SERVICES

Centers for Disease Control and Prevention

Performance Review Board Members

AGENCY: Centers for Disease Control and Prevention (CDC), Department of Health and Human Services (HHS).

ACTION: Notice.

SUMMARY: In this notice, the Centers for Disease Control and Prevention (CDC) located within the Department of Health and Human Services (HHS) is publishing the names of the Performance Review Board Members who are reviewing performance for Fiscal Year 2015.

FOR FURTHER INFORMATION CONTACT: Sharon O'Brien, Deputy Director, Executive and Scientific Resources Office, Human Resources Office, Centers for Disease Control and Prevention, 4770 Buford Highway, Mailstop K-07, Atlanta, Georgia 30341, Telephone (770) 488-1781.

SUPPLEMENTARY INFORMATION: Title 5, U.S.C. Section 4314(c)(4) of the Civil Service Reform Act of 1978, Public Law 95-454, requires that the appointment of Performance Review Board Members be published in the Federal Register. The following persons will serve on the CDC Performance Review Boards or Panels, which will oversee the evaluation of performance appraisals of Senior Executive Service members for the Fiscal Year 2015 review period:

Christine Branche, Co-Chair

James Seligman, Co-Chair

Irma Arispe

Janet Collins

Hazel Dean

Joseph Henderson

Christine Kosmos

Alan Kotch

Jennifer Parker

Judith Qualters

Kalwant Smagh

Dated: September 24, 2015.
Veronica Kennedy,
Acting Director, Division of the Executive Secretariat, Office of the Chief of Staff, Centers for Disease Control and Prevention.

[FR Doc. 2015-24650 Filed 9-28-15; 8:45 am]

BILLING CODE 4163-18-P